DEPARTMENT OF AGRICULTURE

Agricultural Marketing Service

[Doc. No. FV-03-328]

United States Standards for Grades of Frozen Celery

AGENCY: Agricultural Marketing Service, USDA.

ACTION: Notice.

SUMMARY: The Agricultural Marketing Service (AMS) of the Department of Agriculture (USDA) is soliciting comments on its proposal to create new United States Standards for Grades of Frozen Celery. USDA received a petition from a grower and a processor of celery to create grade standards for frozen celery that will include a description of the product, style, sample unit size, grades, ascertaining the grade by sample, and ascertaining the grade by lot. The proposed standard is intended to provide a common language for trade, and a means of measuring value in the marketing of frozen celery.

DATES: Comments may be submitted on or before April 21, 2003.

ADDRESSES: Written comments may be submitted to: Karen L. Kaufman, Processed Products Branch, Fruit and Vegetable Programs, Agricultural Marketing Service, U.S. Department of Agriculture, STOP 0247,1400 Independence Avenue SW., Washington, D.C. 20250-0247; fax (202) 690-1087; or e-mail karen.kaufman@usda.gov.

Comments should reference the date and page of this issue of the Federal Register. All comments received will be made available for public inspection at the address listed above during regular business hours and on the Internet.

The draft of the United States Standards for Grades of Frozen Celery are available either through the address cited above or by accessing AMS's Home Page on the Internet at: http://www.ams.usda.gov/fv/ppbdocketlist.htm. Any comments received regarding this proposed standard will also be posted on that site.

FOR FURTHER INFORMATION CONTACT: Karen L. Kaufman at (202) 720-5021 or e-mail at karen.kaufman@usda.gov.

SUPPLEMENTARY INFORMATION: Section 203(c) of the Agricultural Marketing Act of 1946 (7 U.S.C. 1621-1627), as amended, directs and authorizes the Secretary of Agriculture “to develop and improve standards of quality, condition, quantity, grade, and packaging, and recommend and demonstrate such standards in order to encourage uniformity and consistency in commercial practices * * * .” AMS is committed to carrying out this authority in a manner that facilitates the marketing of agricultural commodities and makes copies of official standards available upon request. The United States Standards for Grades of Fruits and Vegetables are maintained by USDA/AMS/Fruit and Vegetable Programs and may be obtained by writing to the above address or on the internet at http://www.ams.usda.gov/standards/standpfv.htm.

AMS is proposing to establish the U.S. Standards for Grades of Frozen Celery using the procedures that appear in Part 36 of Title 7 of the Code of Federal Regulations (7 CFR Part 36).

Proposed by the Petitioner

The petitioner, a grower and a processor of celery, requested that USDA develop a standard for frozen celery to be used by the industry. The petitioner provided information on style, sample size and description to AMS to develop the standard. AMS visited the petitioner's facility to collect information on grades of frozen celery and how to ascertain the grade of a sample and of a lot.

AMS prepared a discussion draft of the frozen celery standard, and distributed copies for input to the petitioner, the American Frozen Food Institute (AFFI), and the National Food Processors Association (NFPA). Input from the above groups was used to develop the proposed standard.

Proposed by Fruit and Vegetable Programs, AMS

A notice proposing to create new United States Standards for Grades of Frozen Celery based on the petition was published in the May 2, 2001, Federal Register (66 FR 21908). AMS received four comments in response to the notice. All of the responses but one were generally in favor of the new standard. These comments are available by accessing AMS's Home Page on the Internet at: http://www.ams.usda.gov/fv/ppb.html.

One commentor did not see the need for a standard for frozen celery and felt the standard was too subjective. The other commentors were in favor of a standard for frozen celery and proposed changes to the Table I-Allowances For Defects In Frozen Celery for grade “A” and “B,” “sliced” and “diced” styles. These changes included a reduction in the sample size for Table I from a maximum-per 500 grams to maximum-per 283 grams for a 10-ounce portion, a separate allowance for seriously blemished units from blemished units, decrease the number of leaf material larger than a ¼″ from “20 pieces” to “10 pieces,” change mechanical damage from “no more than 3 pieces” to “no more than 3% by weight” and for insect damaged change from “none” to “0.5%.”

Based on these comments, AMS has revised the proposed standard for grades of frozen celery. AMS is proposing to establish the U.S. Standards for Grades of Frozen Celery following the standard format for U.S. Grade Standards. AMS is proposing to define “frozen celery” and establish “sliced” and “diced” as the style designations. The proposal will also define the quality factors that affect frozen celery and determine sample unit sizes for this commodity.

This proposal will establish the grade levels “A,” “B” and “Substandard” and assign the corresponding score points for each level. The proposed tolerance for each quality factor as defined for each grade level will be established.

The grade of a sample unit of frozen celery will be ascertained by considering the factors of varietal characteristics flavor and odor, which are not scored; the ratings for the factors of color, defects, and character, which are scored; the total score; and the limiting rules which apply. This proposal will provide a common language for trade, a means of measuring value in the marketing of frozen celery, and provide guidance in the effective utilization of frozen celery. The official grade of a lot of frozen celery covered by these standards will be determined by the procedures set forth in the Regulations Governing Inspection and Certification of Processed Products Thereof, and Certain Other Processed Food Products (§ 52.1 to 52.83).

This notice provides for a 60 day comment period for interested parties to comment on changes to the standards.

Authority: 7 U.S.C. 1621-1627.

Dated: February 13, 2003.
A.J. Yates,
Administrator, Agricultural Marketing Service.

[FR Doc. 03-4081 Filed 2-19-03; 8:45 am]

BILLING CODE 3410-02-U